DEPARTMENT OF THE INTERIOR

Bureau of Land Management

[ID-070-1020-PG]

Resource Advisory Council Meeting; Upper Snake River District

AGENCY: Bureau of Land Management, Interior.

ACTION: Resource Advisory Council meeting locations and times

SUMMARY: In accordance with the Federal Land Policy and Management Act and the Federal Advisory Committee Act of 1972 (FACA), 5 U.S.C., the Department of the Interior, Bureau of Land Management (BLM) meeting of the Upper Snake River District Resource Advisory Council (RAC) will be held as indicated below. The agenda for this two-day meeting will include updates on the designation of an expanded Craters of the Moon, Fire Management Planning, the Shoshone Land Use Plan Amendments, Sage Grouse Studies in the Lower Snake River District as a starting point for studies in this District, and Selenium cleanup in the Pocatello Field Office. The agenda may change as other issues warrant between publication of this notice and the meeting. All meetings are open to the public. The public may present written or oral comments to the council. Each formal council meeting will have a time allocated for hearing public comments. Individuals who plan to attend and need further information about the meetings, or need special assistance such as sign language interpretation or other reasonable accommodations should contact David Howell at the Upper Snake River District Office, 1405 Hollipark Dr., Idaho Falls, ID 83401, or telephone (208) 524-7559.

DATES AND TIMES: The next meeting will be held February 21-22, 2000 at the Best Western Burley Inn, address in Burley, Idaho. An executive session of the RAC will begin at 1 p.m., and the full RAC meeting will begin at 2 p.m. The meeting will conclude no later than 3 p.m. the following day. Public comments, if any, will be scheduled from 2:00 to 2:30 p.m. on February 21, 2001.

SUPPLEMENTARY INFORMATION: The purpose of the Resource Advisory Council is to advise the Secretary of the Interior, through the BLM, on a variety of planning and management issues associated with the management of the of the public lands.

FOR FURTHER INFORMATION CONTACT: David Howell, Upper Snake River District, 1405 Hollipark Dr., Idaho Falls, ID 83401, (208) 524-7559.

Dated: January 19, 2001.
Joe Kraayenbrink,
Idaho Falls Field Manager.

[FR Doc. 01-3280 Filed 2-7-01; 8:45 am]

BILLING CODE 4310-GG-P